DEPARTMENT OF THE INTERIOR

National Park Service

National Register of Historic Places; Notification of Pending Nominations and Related Actions

Nominations for the following properties being considered for listing or related actions in the National Register were received by the national Park Service before December 29, 2007. Pursuant to section 60.13 of 36 CFR part 60, written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by January 30, 2008.

J. Paul Loether,
Chief, National Register of Historic Places/National Historic Landmarks Program.

ARIZONA

Santa Cruz County

San Rafael Historic District, (Cattle Ranching in Arizona MPS) HC 2 Box 200, Patagonia, 08000001.

KENTUCKY

Boyd County

Ashland Tuberculosis Hospital, 3700 Landsdowne Dr., Ashland, 08000002.

Campbell County

Fort Thomas Military Reservation Historic District (Boundary Increase), 1011-1312 S. Ft. Thomas Ave., 9-11 River Rd. & 12-28 Midway Ct., Ft. Thomas, 08000003.

Casey County

Liberty Downtown Historic District, 1st blk. of Campbellsville Rd., Hustonville & Middleburg Sts., & Courthouse Sq., Liberty, 08000004.

Hardin County

Harrison, Fannie, Farm, Address Restricted, Elizabethtown, 08000005.

Jefferson County

Business Women's Club, The, 425 Muhammed Ali Blvd., Louisville, 08000006.

Hamilton Brothers Warehouse, 125-127 W. Main St., Louisville, 08000007.

Woodbourne House, 2024 Woodford Pl., Louisville, 08000008.

Jessamine County

Martin, Lewis Y., House, 6975 Tates Creek Pk., Nicholasville, 08000009.

Lee County

Beattyville Grade School, 58 E. Center St., Beattyville, 08000010.

Taylor County

Campbellsville Residential Historic District, Roughly bounded by Central Ave., & Duffy, Maple & Jackson Sts., Campbellsville, 08000011.

Warren County

Adams—Kentucky District, 900-1200 blks. of Adams St. & 1000-1300 blks. of Kentucky St., Bowling Green, 08000012.

Washington County

Hatchett Tobacco Barn, 3067 Beechland Rd., Springfield, 08000013.

LOUISIANA

Jefferson Parish

Old Kenner High School, 1601 Rev. Richard Wilson, Kenner, 08000014.

RHODE ISLAND

Providence County

French Worsted Company Mill, 153 Hamlet Ave., Woonsocket, 08000015.

WISCONSIN

Ashland County

Rocky Island Historic District, Rocky Island, La Pointe, 08000016.

Vilas County

Stone, Ben and Margaret, Boathouse, 8810 Co. Rd. H, Plum Lake, 08000017.

[FR Doc. 08-101 Filed 1-14-08; 8:45 am]

BILLING CODE 4312-51-M